DEPARTMENT OF ENERGY

Federal Energy Regulatory Commission

[Docket No. PF16-6-000]

Driftwood LNG, LLC and Driftwood LNG Pipeline Company, LLC; Notice of Intent To Prepare an Environmental Impact Statement for the Planned Driftwood LNG Project, Request for Comments on Environmental Issues, and Notice of Public Scoping Sessions

The staff of the Federal Energy Regulatory Commission (FERC or Commission) will prepare an environmental impact statement (EIS) that will discuss the environmental impacts of the Driftwood LNG Project involving construction and operation of facilities by Driftwood LNG, LLC and Driftwood LNG Pipeline Company, LLC (collectively referred to as “DWLNG”) in Calcasieu, Jefferson Davis, Acadia, and Evangeline Parishes, Louisiana. The Commission will use this EIS in its decision-making process to determine whether the planned project is in the public convenience and necessity.

This notice announces the opening of the scoping process the Commission will use to gather input from the public and interested agencies on the project. You can make a difference by providing us with your specific comments or concerns about the project. Your comments should focus on the potential environmental effects, reasonable alternatives, and measures to avoid or lessen environmental impacts. Your input will help the Commission staff determine what issues they need to evaluate in the EIS. To ensure that your comments are timely and properly recorded, please send your comments so that the Commission receives them in Washington, DC on or before November 4, 2016.

If you sent comments on this project to the Commission before the opening of this docket on June 6, 2016, you will need to file those comments in Docket No. PF16-6-000 to ensure they are considered as part of this proceeding.

This notice is being sent to the Commission's current environmental mailing list for this project. State and local government representatives should notify their constituents of this planned project and encourage them to comment on their areas of concern.

If you are a landowner receiving this notice, a pipeline company representative may contact you about the acquisition of an easement to construct, operate, and maintain the planned facilities. The company would seek to negotiate a mutually acceptable agreement. However, if the Commission approves the project, that approval conveys with it the right of eminent domain. Therefore, if easement negotiations fail to produce an agreement, the pipeline company could initiate condemnation proceedings where compensation would be determined in accordance with state law.

A fact sheet prepared by the FERC entitled “An Interstate Natural Gas Facility On My Land? What Do I Need To Know?” is available for viewing on the FERC Web site (http://www.ferc.gov/resources/guides/gas/gas.pdf). This fact sheet addresses a number of typically asked questions, including the use of eminent domain and how to participate in the Commission's proceedings.

Public Participation

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket number (PF16-6-000) with your submission: Kimberly D. Bose, Secretary, Federal Energy Regulatory Commission, 888 First Street NE., Room 1A, Washington, DC 20426.

(4) In lieu of sending written or electronic comments, the Commission invites you to attend one of the public scoping sessions its staff will conduct in the project area, scheduled as follows:

FERC Public Scoping Meetings Driftwood LNG project
Date and time | Location
Tuesday, October 25, 2016, 5:00 pm to 8:30 pm | Town of Kinder Community Center, 316 N 8th Street, Kinder, LA 70648.
Wednesday, October 26, 2016, 5:00 pm to 8:30 pm | West Cal Event Center, 401 Arena Road, Sulphur, LA 70665.
Thursday, October 27, 2016, 5:00 pm to 8:30 pm | Northwest Community Center, 501 Samuel Drive, Eunice, LA 70535.

The primary goal of these scoping sessions is to identify the specific environmental issues and concerns that should be considered and addressed in the EIS.

Commission staff will accept verbal comments between 5:00 and 8:30 p.m. There will not be a formal presentation by Commission staff when the session begins; however, Commission staff will be available to answer your questions about the environmental review process. Your comments will be recorded individually by a stenographer (with FERC staff or representative present) and placed into the Commission's administrative record. A transcript of the scoping session(s) will be entered into the FERC's publicly available eLibrary (see below for instructions on using eLibrary). It is important to note that verbal comments hold the same weight as written or electronically submitted comments.

Please note this is not your only public input opportunity; please refer to the review process flow chart in appendix 1.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Summary of the Planned Project

DWLNG intends to construct a planned natural gas liquefaction and export facility in Calcasieu Parish, Louisiana, along the west side of the Calcasieu River, with a liquefaction capacity of about 26 million tonnes per annum (MTPA) of natural gas.

Additionally, DWLNG plans to construct 96 miles of pipeline in Calcasieu, Jefferson Davis, Acadia, and Evangeline Parishes, that would connect the liquefaction and export facility to the existing interstate U.S. natural gas grid.

The proposed facilities would consist of the following components: (1) Five LNG plants, each comprising one gas pre-treatment unit and four gas-turbine-driven Integrated Pre-cooled Single Mixed Refrigerant liquefaction units; (2) Three full-containment LNG storage tanks of approximately 250,000 m³ each; (3) Three berths and loading facilities for LNG ships ranging from 125,000 m³ up to 216,000 m³ cargo capacity; and (4) Three compressor stations, 15 meter stations, a 3.5-mile 36-inch-diameter pipeline lateral, and three pipeline segments, consisting of about 74 miles of 48-inch-diameter pipeline, 11 miles of 42-inch-diameter pipeline, and 11 miles of 36-inch-diameter pipeline.

DWLNG plans to commence construction in second quarter 2018 and expects to be ready to commence LNG exports in second quarter 2022.

The general location of the project facilities is shown in appendix 2.

Land Requirements for Construction

The Driftwood LNG Project would be situated on the west side of the Calcasieu River in Calcasieu Parish, Louisiana, approximately five miles south of the town of Carlyss. The facility site would cover an area of approximately 800 acres. DWLNG would own or lease all of the land required for the facility and own, lease, or acquire the necessary rights of way on land required for the pipeline. At this time, DWLNG has purchased approximately 140 acres and has leased an additional 475 acres of the facility site with the right to enter into a long-term lease for up to a total of fifty years.

Following construction, DWLNG would maintain approximately 305 acres for permanent operation of the project's facilities; the remaining acreage would be restored and revert to former uses.

Non-Jurisdictional Facilities

The project would include two non-jurisdictional facilities: Power supply and water/wastewater systems.

Power Supply: During normal operations electric power would be drawn from the power grid. Approximately 200 megawatts of electrical power would be required for the operation of the Facility. Power would be provided by the local electricity utility company. The Facility would have essential diesel generation capacity to generate sufficient electrical power to allow for lighting of safe egress, controlled shutdown of the facility in the event of a power failure from the main grid system and power for critical systems which may be required during storm events or emergency situations.

Water and Wastewater: The project would connect to the local parish municipality for water services (Calcasieu Parish Waterworks District). Connection to the municipal system would not require any modifications to the existing infrastructure. The project would install a packaged sanitary sewage treatment system.

Although FERC doesn't have the regulatory authority to modify or deny the construction of the above-described facilities, we will disclose available information regarding the construction impacts in the cumulative impacts section of our EIS.

The EIS Process

The National Environmental Policy Act (NEPA) requires the Commission to take into account the environmental impacts that could result from an action whenever it considers the issuance of a Certificate of Public Convenience and Necessity. NEPA also requires us ² to discover and address concerns the public may have about proposals. This process is referred to as scoping. The main goal of the scoping process is to focus the analysis in the EIS on the important environmental issues. By this notice, the Commission requests public comments on the scope of the issues to address in the EIS. We will consider all filed comments during the preparation of the EIS.

² “We,” “us,” and “our” refer to the environmental staff of the Commission's Office of Energy Projects.

In the EIS we will discuss impacts that could occur as a result of the construction and operation of the planned project under these general headings:

• Geology and soils;

• land use;

• water resources, fisheries, and wetlands;

• cultural resources;

• socioeconomics;

• vegetation and wildlife;

• air quality and noise;

• endangered and threatened species;

• public safety; and

• cumulative impacts.

We will also evaluate possible alternatives to the planned project or portions of the project, and make recommendations on how to lessen or avoid impacts on the various resource areas.

Although no formal application has been filed, we have already initiated our NEPA review under the Commission's pre-filing process. The purpose of the pre-filing process is to encourage early involvement of interested stakeholders and to identify and resolve issues before the FERC receives an application. As part of our pre-filing review, we have begun to contact some federal and state agencies to discuss their involvement in the scoping process and the preparation of the EIS.

The EIS will present our independent analysis of the issues. We will publish and distribute the draft EIS for public comment. After the comment period, we will consider all timely comments and revise the document, as necessary, before issuing a final EIS. To ensure we have the opportunity to consider and address your comments, please carefully follow the instructions in the Public Participation section, beginning on page 2 on this notice.

With this notice, we are asking agencies with jurisdiction by law and/or special expertise with respect to the environmental issues related to this project to formally cooperate with us in the preparation of the EIS.³ Agencies that would like to request cooperating agency status should follow the instructions for filing comments provided under the Public Participation section of this notice. The U.S. Department of Energy, U.S. Coast Guard, and U.S. Army Corps of Engineers are anticipated to participate as cooperating agencies in the preparation of the EIS to satisfy their NEPA responsibilities related to this project.

³ The Council on Environmental Quality regulations addressing cooperating agency responsibilities are at Title 40, Code of Federal Regulations, Part 1501.6.

Consultations Under Section 106 of the National Historic Preservation Act

In accordance with the Advisory Council on Historic Preservation's implementing regulations for Section 106 of the National Historic Preservation Act, we are using this notice to initiate consultation with the applicable State Historic Preservation Office (SHPO), and to solicit their views and those of other government agencies, interested Native American Tribes, and the public on the project's potential effects on historic properties.⁴ We will define the project-specific Area of Potential Effects (APE) in consultation with the SHPO as the project develops. On natural gas facility projects, the APE at a minimum encompasses all areas subject to ground disturbance (examples include construction right-of-way, contractor/pipe storage yards, compressor stations, and access roads). Our EIS for this project will document our findings on the impacts on historic properties and summarize the status of consultations under Section 106.

⁴ The Advisory Council on Historic Preservation regulations are at Title 36, Code of Federal Regulations, Part 800. Those regulations define historic properties as any prehistoric or historic district, site, building, structure, or object included in or eligible for inclusion in the National Register of Historic Places.

Currently Identified Environmental Issues

We have already identified several issues that we think deserve attention based on a preliminary review of the planned facilities, the environmental information provided by DWLNG, comments received at DWLNG's open houses, and those comments filed to-date. This preliminary list of issues may change based on your additional comments and our analysis:

• Visual impacts;

• noise and air emissions;

• traffic; and

• cumulative impacts.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, or who own homes within certain distances of aboveground facilities, and anyone who submits comments on the project. We will update the environmental mailing list as the analysis proceeds to ensure that we send the information related to this environmental review to all individuals, organizations, and government entities interested in and/or potentially affected by the planned project.

Copies of the completed draft EIS will be sent to the environmental mailing list for public review and comment. If you would prefer to receive a paper copy of the document instead of the CD version, or would like to remove your name from the mailing list, please return the attached Information Request (appendix 3).

Becoming an Intervenor

Once DWLNG files its application with the Commission, you may want to become an “intervenor” which is an official party to the Commission's proceeding. Intervenors play a more formal role in the process and are able to file briefs, appear at hearings, and be heard by the courts if they choose to appeal the Commission's final ruling. An intervenor formally participates in the proceeding by filing a request to intervene. Motions to intervene are more fully described at http://www.ferc.gov/resources/guides/how-to/intervene.asp. Instructions for becoming an intervenor are in the “Document-less Intervention Guide” under the “e-Filing” link on the Commission's Web site. Please note that the Commission will not accept requests for intervenor status at this time. You must wait until the Commission receives a formal application for the project.

Additional Information

Additional information about the project is available from the Commission's Office of External Affairs, at (866) 208-FERC, or on the FERC Web site (www.ferc.gov) using the eLibrary link. Click on the eLibrary link, click on “General Search,” and enter the docket number, excluding the last three digits in the Docket Number field (i.e., PF16-6). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings/sessions or site visits will be posted on the Commission's calendar located at www.ferc.gov/EventCalendar/EventsList.aspx along with other related information.

Dated: October 3, 2016.
Kimberly D. Bose,
Secretary.

[FR Doc. 2016-24273 Filed 10-6-16; 8:45 am]

BILLING CODE 6717-01-P